FEDERAL COMMUNICATIONS COMMISSION

47 CFR Part 64

[WC Docket No. 12-375, DA 22-52; FR ID 77980]

Rates for Interstate Inmate Calling Services

AGENCY: Federal Communications Commission.

ACTION: Final rule; announcement of effective date.

SUMMARY: In this document, the Federal Communications Commission (Commission) announces the Office of Management and Budget (OMB) has approved, for a period of three years, an information collection associated with the Mandatory Data Collection Order, DA 22-52, issued by the Commission's Wireline Competition Bureau (WCB or Bureau) and Office Economics and Analytics (collectively WCB/OEA) on January 18, 2022. In that Order, WCB/OEA adopted instructions, a reporting template, and a certification form related to a data collection regarding calling services for incarcerated people. OMB approved the data collection on March 1, 2022. This document establishes an effective date for the Mandatory Data Collection Order. Responses to to the Third Mandatory Data Collection are due June 30, 2022.

DATES: The effective date of the order published March 23, 2022 at 87 FR 16560 is April 1, 2022.

FOR FURTHER INFORMATION CONTACT: Erik Raven-Hansen, Pricing Policy Division, Wireline Competition Bureau, (202) 418-1532, or email erik.raven-hansen@fcc.gov.@fcc.gov.

SUPPLEMENTARY INFORMATION: This document announces that, on March 1, 2022, OMB approved, for a period of three years, the information collection requirements adopted on January 18, 2022, in the Mandatory Data Collection Order, DA 22-52, published March 23, 2022 at 87 FR 16560. The OMB Control Number is 3060-1300. The Commission publishes this document as an announcement of the effective date of the requirements for the Mandatory Data Collection.

In the Mandatory Data Collection Order, WCB/OEA directed that requirements for the Mandatory Data Collection adopted in that Order would become effective on the date specified in a document published in the Federal Register announcing OMB approval. We note that inmate calling services (ICS) providers' responses to the data collection are due no later than June 30, 2022.

If you have any comments on the Mandatory Data Collection, or how the Commission can improve the collections and reduce any burdens caused thereby, please contact Nicole Ongele, Federal Communications Commission, 45 L Street NE, Washington, DC 20002. Please include the OMB Control Number, 3060-1300, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 1, 2022 for the information collection requirements contained in WCB/OEA's Mandatory Data Collection Order. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1300.

The foregoing notification is required by the Paperwork Reduction Act of 1995, Public Law 104-13, October 1, 1995, and 44 U.S.C. 3507.

The total data collection burdens and costs for the respondents are as follows:

OMB Control Number: 3060-1300.

OMB Approval Date: March 1, 2022.

Expiration Date: March 31, 2025.

Title: Inmate Calling Service (ICS) 2022 One-time Data Collection, WC Docket No. 12-375, FCC 21-60.

Form Numbers: FCC Form 2302(a) and FCC Form 2302(b).

Respondents: Business or other for profit.

Number of Respondents and Responses: 20 respondents; 20 responses.

Estimated Time per Response: 355 hours on average.

Frequency of Response: One-time reporting requirement.

Total Annual Burden: 7,100 hours.

Total Annual Cost: No cost.

Obligation To Respond: Required to obtain or retain benefits. Statutory authority for this information collection is contained in sections 1, 4(i)-(j), 201(b), 218, 220, 225, 255, 276, 403, and 617 of the Communications Act of 1934, as amended, 47 U.S.C. 151, 154(i)-(j), 201(b), 218, 220, 225, 255, 276, 403, and 617.

Privacy Act Impact Assessment: No Impact(s).

Nature and Extent of Confidentiality: The Commission anticipates treating as presumptively confidential any particular information identified as proprietary by calling services providers.

Needs and Uses: Section 201 of the Communications Act of 1934, as amended (Act), 47 U.SC. 201, requires that calling services providers' interstate and international rates and practices be just and reasonable. Section 276 of the Act, 47 U.S.C. 276, requires that payphone service providers (including calling services providers) be fairly compensated for completed calls.

On May 24, 2021, the Commission released the Third Report and Order (86 FR 40682, July 28, 2021), Order on Reconsideration (86 FR 40340, July 28, 2021), and Fifth Further Notice of Proposed Rulemaking (86 FR 40416, July 28, 2021), WC Docket No. 12-375, FCC 21-60 (2021 ICS Order), in which it continued its reform of the calling services marketplace. In that Order, the Commission, among other actions, delegated authority to WCB/OEA to implement a data collection for ICS providers. Pursuant to that delegation, WCB/OEA adopted the Mandatory Data Collection Order, including the instructions, reporting template, and certification form for the data collection, on January 18, 2022.

Federal Communications Commission.
Lynne Engledow,
Deputy Chief, Pricing Policy Division, Wireline Competition Bureau.

[FR Doc. 2022-06517 Filed 3-31-22; 8:45 am]

BILLING CODE 6712-01-P